DEPARTMENT OF JUSTICE

Office of Justice Programs

[OJP (OJJDP) Docket No. 1788]

Notice of Re-Establishment of the Federal Advisory Committee on Juvenile Justice

AGENCY: Office of Juvenile Justice and Delinquency Prevention, Justice.

ACTION: Reestablishment of Federal Advisory Committee.

SUMMARY: Under the provisions of the Federal Advisory Committee Act of 1972 (FACA) and the Government in the Sunshine Act of 1976, the Office of Juvenile Justice and Delinquency Prevention gives notice of its intent to reestablish the charter for the Federal Advisory Committee on Juvenile Justice (FACJJ).

FOR FURTHER INFORMATION CONTACT: Visit the website for the FACJJ at www.facjj.ojp.gov or contact Keisha Kersey, Designated Federal Official (DFO), Office of Juvenile Justice and Delinquency Prevention, by telephone at (202) 532-0124 (not a toll-free number) or via email: Keisha.Kersey@usdoj.gov.

SUPPLEMENTARY INFORMATION: This Federal Register Notice notifies the public of the intent to reestablish the Charter of the Federal Advisory Committee on Juvenile Justice in accordance with the Federal Advisory Committee Act, Section 14(a)(1).

The Federal Advisory Committee on Juvenile Justice (FACJJ), established pursuant to Section 3(2)A of the Federal Advisory Committee Act (5 U.S.C. App.2), carries out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.ojp.gov.

Keisha Kersey,
Designated Federal Official (DFO), Office of Juvenile Justice and Delinquency Prevention.

[FR Doc. 2021-03851 Filed 2-24-21; 8:45 am]

BILLING CODE 4410-18-P